NUCLEAR REGULATORY COMMISSION

[Docket Nos. 50-315 and 50-316]

Indiana Michigan Power Company; Donald C. Cook Unit 1 and 2, Environmental Assessment and Finding of No Significant Impact

The U.S. Nuclear Regulatory Commission (NRC) is considering issuance of an amendment to Facility Operating License No. DPR-58 and No. DPR-74, issued to Indiana Michigan Power Company (the licensee), for operation of the Donald C. Cook Nuclear Plant, Units 1 and 2, located in Berrien County, Michigan.

Environmental Assessment

Identification of the Proposed Action

The proposed action would make administrative and editorial changes to several Technical Specifications (TSs). The proposed changes include: (1) revising boron sampling requirements in mode 6; (2) deleting a reference to obsolete equipment in a footnote; (3) deleting a redundant figure; (4) correcting a reference to another requirement; (5) deleting obsolete notes; (6) adding to surveillance requirements; (7) clarifying instrumentation configuration; and (8) correcting typographical errors.

The proposed action is in accordance with the licensee's application for amendment dated December 3, 1998.

The Need for the Proposed Action

These proposed changes are needed to remove obsolete information, provide consistency between Unit 1 and Unit 2 TSs, provide consistency with the Standard Technical Specifications, provide clarification, and correct typographical errors.

Environmental Impacts of the Proposed Action

The Commission has completed its evaluation of the proposed action and concludes that the administrative and editorial changes do not impact any requirements. The proposed action does not modify the facility or affect the manner in which the facility is operated.

The proposed action will not increase the probability or consequences of accidents, no changes are being made in the types of any effluents that may be released off site, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action.

Accordingly, the Commission concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Donald C. Cook Nuclear Plant.

Agencies and Persons Consulted

In accordance with its stated policy, on March 2, 2000, the staff consulted with the Michigan State official, Mr. David Minnaar of the Michigan Department of Environmental Quality, regarding the environmental impact of the proposed action. The State official had no comments.

Finding of No Significant Impact

On the basis of the environmental assessment, the Commission concludes that the proposed action will not have a significant effect on the quality of the human environment. Accordingly, the Commission has determined not to prepare an environmental impact statement for the proposed action.

For further details with respect to the proposed action, see the licensee's letter dated December 3, 1998, which is available for public inspection at the Commission's Public Document Room, The Gelman Building, 2120 L Street, NW., Washington, DC. Publicly available records will be accessible electronically from the ADAMS Public Library component on the NRC Web site, http:\\www.nrc.gov (the Electronic Reading Room)

Dated at Rockville, Maryland, this 22d day of March 2000.
For the Nuclear Regulatory Commission.
John F. Stang,
Senior Project Manager, Section 1, Project Directorate III, Division of Licensing Project Management, Office of Nuclear Reactor Regulation.

[FR Doc. 00-7574 Filed 3-27-00; 8:45 am]

BILLING CODE 7590-01-P